DEPARTMENT OF LABOR

Office of the Secretary

Submission for OMB Review: Comment Request

February 9, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Employee Benefits Security Administration (EBSA), Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of an existing OMB Control Number.

Title of Collection: ERISA Technical Release 91-1.

OMB Control Number: 1210-0084.

Affected Public: Businesses or other for-profits.

Total Estimated Number of Respondents: 30.

Total Estimated Annual Burden Hours: 1,827.

Total Estimated Annual Costs Burden: $25,286.

Description: Employee Retirement Income Security Act of 1974 (ERISA) Technical Release 91-1 alerts the public to amendments to section 101(e) of ERISA that requires a plan to provide advanced notification to the Secretaries of Labor and the Treasury, as well as participants and beneficiaries, of an intended transfer of excess assets from a defined benefit plan to a retiree health account. For additional information, see related notice published at Vol. 73 FR 70677 on November 21, 2008.

Agency: Employee Benefits Security Administration.

Type of Review: Extension without change of an existing OMB Control Number.

Title of Collection: Disclosures by Insurers to General Account Policyholders.

OMB Control Number: 1210-0114.

Affected Public: Businesses or other for-profits.

Total Estimated Number of Respondents: 104.

Total Estimated Annual Burden Hours: 408,948.

Total Estimated Annual Costs Burden: $32,235.

Description: Section 1460 of the Small Business Job Protection Act of 1996 (Pub. L. 104-188) added a new Section 401(c) to ERISA to establish requirements for “Transition Policies” issued before December 31, 1998, to employee benefit plans, under which plan assets are held in the insurer's general account. The regulation requires financial information to be provided to the plan policyholder when the policy is first issued, annually, and upon request. For additional information, see related notice published at Vol. 73 FR 70676 on November 21, 2008.

Darrin A. King,
Departmental Clearance Officer.

[FR Doc. E9-3110 Filed 2-12-09; 8:45 am]

BILLING CODE 4510-29-P